NATIONAL AERONAUTICS AND SPACE ADMINISTRATION

[Notice: (10-077)]

NASA Advisory Council; Meeting

AGENCY: National Aeronautics and Space Administration.

ACTION: Notice of meeting.

SUMMARY: In accordance with the Federal Advisory Committee Act, Public Law 92-463, as amended, the National Aeronautics and Space Administration announces a meeting of the NASA Advisory Council.

DATES: Thursday, August 5, 2010, 8 a.m.-5 p.m. (local time)

Friday, August 6, 2010, 8 a.m.-12 a.m. (local time).

ADDRESSES: NASA Jet Propulsion Laboratory, Von Karman Auditorium, 4800 Oak Grove Drive, Pasadena, CA 91009.

FOR FURTHER INFORMATION CONTACT: Ms. Marla King, NAC Administrative Officer, National Aeronautics and Space Administration Headquarters, Washington, DC 20546, 202/358-1148.

SUPPLEMENTARY INFORMATION: The agenda for the meeting will include reports from the NAC Committees:

—Aeronautics

—Audit, Finance and Analysis

—Commercial Space

—Education and Public Outreach

—Exploration

—Information Technology Infrastructure

—Science

—Space Operations

—Technology and Innovation

The meeting will be open to the public up to the seating capacity of the room. It is imperative that the meeting be held on this date to accommodate the scheduling priorities of the key participants.

Dated: July 7, 2010.
P. Diane Rausch,
Advisory Committee Management Officer, National Aeronautics and Space Administration.

[FR Doc. 2010-16943 Filed 7-12-10; 8:45 am]

BILLING CODE P